DEPARTMENT OF TRANSPORTATION

Federal Aviation Administration

14 CFR Part 71

[Docket No. FAA-2021-1082; Airspace Docket No. 21-ASO-16]

RIN 2120-AA66

Amendment and Removal of Air Traffic Service (ATS) Routes; Eastern United States

AGENCY: Federal Aviation Administration (FAA), DOT.

ACTION: Final rule.

SUMMARY: This action amends jet routes J-22, and J-48; and removing jet routes J-39, J-118, J-145, and J-186 in the eastern United States. This action supports the VHF Omnidirectional Range (VOR) Minimum Operational Network (MON) program to improve the efficiency of the National Airspace System (NAS) and reduce dependency on ground-based navigational systems.

DATES: Effective date 0901 UTC, September 8, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the NAS.

History

The FAA published a notice of proposed rulemaking for Docket No. FAA-2021-1082 in the Federal Register (86 FR 70778; December 13, 2021), amending three jet routes and removing four jet routes in the eastern United States. Interested parties were invited to participate in this rulemaking effort by submitting written comments on the proposal. No comments were received.

Jet routes are published in paragraph 2004 of FAA Order JO 7400.11F dated August 10, 2021, and effective September 15, 2021, which is incorporated by reference in 14 CFR 71.1. The jet routes listed in this document would be subsequently amended in, or removed from, respectively, FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Difference From the NPRM

In the NPRM, the FAA proposed to amend jet route J-46. Subsequent to the publication of the NPRM, the FAA determined that additional coordination was needed to finalize the design of J-46. Consequently, J-46 is removed from this rule and will remain as currently shown on the IFR En Route chart. Any future modification of J-46 will be addressed in a separate rulemaking action. Routes J-22, J-48, J-39, J-118, J-145, and J-186 will be amended or removed by this rule as proposed in the NPRM.

The Rule

This action amends 14 CFR part 71 by amending jet routes J-22, and J-48; and removing jet routes J-39, J-118, J-145, and J-186 in the eastern United States. This action supports the VOR MON program by amending or removing certain jet route segments due to the planned decommissioning of ground-based navigation aids. Additionally, the jet route changes reduce aeronautical chart clutter by removing unneeded route segments.

The route changes are as follows:

J-22: J-22 currently extends from Nuevo Laredo, Mexico, to Montebello, VA. This action removes the route segments from Vulcan, AL, to Montebello, VA. As amended, the J-22 extends from Nuevo Laredo, Mexico to Meridian, MS. The portion within Mexico is excluded.

J-39: J-39 currently extends from Montgomery, AL, to Rosewood, OH. The FAA is removing the entire route.

J-48: J-48 currently extends from the intersection of the Solberg, NJ, 264° and the Pottstown, PA, 050° radials, to Foothills, SC. This action removes the segment between Montebello, VA, and Foothills, SC. As amended, J-48 extends from the intersection of the above Solberg and Pottstown radials to Montebello, VA.

J-118: J-118 currently extends from Memphis, TN, to Spartanburg, SC. The FAA is removing the entire route.

J-145: J-145 currently extends from Foothills, SC, to Charleston, WV. The FAA is removing the entire route.

J-186: J-186 currently extends from Foothills, SC, to Appleton, OH. The FAA is removing the entire route.

FAA Order 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending jet routes J-22, and J-48; and removing jet routes J-39, J-118, J-145, and J-186 in the eastern United States qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F Airspace Designations and Reporting Points, dated August 10, 2021, and effective September 15, 2021, is amended as follows:

Paragraph 2004 Jet Routes.

* * * * *

J-22 [Amended]

From Nuevo Laredo, Mexico, via Laredo, TX; Corpus Christi, TX; Palacios, TX; Lake Charles, LA; McComb, MS; to Meridian, MS. The airspace within Mexico is excluded.

* * * * *

J-39 [Removed]

* * * * *

J-48 [Amended]

From INT Solberg, NJ, 264° and Pottstown, PA, 050° radials; Pottstown; Westminster, MD; Casanova, VA; to Montebello, VA.

* * * * *

J-118 [Removed]

* * * * *

J-145 [Removed]

* * * * *

J-186 [Removed]

* * * * *

Issued in Washington, DC.
Scott M. Rosenbloom,
Manager, Airspace Rules and Regulations.

[FR Doc. 2022-13583 Filed 6-27-22; 8:45 am]

BILLING CODE 4910-13-P